ENVIRONMENTAL PROTECTION AGENCY

[EPA-HQ-OAR-2013-0711; FRL-10102-01-OAR]

Proposed Information Collection Request; Comment Request; Data Requirements Rule for the 1-Hour Sulfur Dioxide Primary National Ambient Air Quality Standard (NAAQS) Information Request (Renewal)

AGENCY: Environmental Protection Agency (EPA).

ACTION: Notice.

SUMMARY: The Environmental Protection Agency (EPA) is planning to submit a renewal of an information collection request (ICR), “Data Requirements Rule for the 1-Hour Sulfur Dioxide Primary National Ambient Air Quality Standard (NAAQS) Information Request (Renewal)” (EPA ICR No. 2495.05), Office of Management and Budget (OMB) Control No. 2060-0696) to the OMB for review and approval in accordance with the Paperwork Reduction Act (PRA). Before doing so, the EPA is soliciting public comments on specific aspects of the proposed information collection as described below. This is a proposed renewal of the existing ICR for the Data Requirements Rule for the 1-Hour Sulfur Dioxide Primary NAAQS (SO2 Data Requirements Rule), which is currently approved through December 31, 2022. An agency may not conduct or sponsor, and a person is not required to respond to, a collection of information unless it displays a currently valid OMB control number.

DATES: Comments must be submitted on or before October 11, 2022.

ADDRESSES: Submit your comments, identified by Docket ID No. EPA-HQ-OAR-2013-0711, at http://www.regulations.gov. Follow the online instructions for submitting comments. Once submitted, comments cannot be edited or removed from Regulations.gov. The EPA may publish any comment received to its public docket. Do not submit electronically any information you consider to be Confidential Business Information (CBI) or other information the disclosure of which is restricted by statute. Multimedia submissions (audio, video, etc.) must be accompanied by a written comment. The written comment is considered to be the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Sydney Lawrence, Office of Air Quality Planning and Standards, Air Quality Policy Division, C504-05, U.S. Environmental Protection Agency, Research Triangle Park, NC; telephone number: (919) 541-4768; email address: lawrence.sydney@epa.gov.

SUPPLEMENTARY INFORMATION: Supporting documents which explain in detail the information that the EPA will be collecting are available in the public docket for this ICR. The docket can be viewed online at www.regulations.gov. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

Pursuant to section 3506(c)(2)(A) of the PRA, EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., electronic submission of responses. EPA will consider the comments received and amend the proposed ICR renewal as appropriate. The final ICR package will then be submitted to OMB for review and approval. At that time, the EPA will issue another Federal Register notice to announce the submission of the ICR to OMB and the opportunity to submit additional comments to OMB.

Background

The SO2 Data Requirements Rule (“DRR” or “Rule”) directed state, local, and tribal air quality management agencies to provide data to initially characterize current air quality in areas that contain large sources of SO2 emissions, information that was used in the NAAQS designations and other processes.¹ The rule also requires states to continue to provide monitoring, modeling, and emissions data for a subset of sources that meet certain requirements under the rule, which may serve to verify whether these areas continue to meet the 2010 SO2 NAAQS.

¹ See 80 FR 51052 (August 21, 2015).

Through the SO2 Data Requirements Rule and the initial ICR, the EPA required that states characterize ambient air quality around sources with emissions that are greater than 2,000 tons per year (tpy) or that were otherwise included as a listed source in accordance with the Rule.² Based upon 2011 emissions data, the ICR initially identified approximately 412 sources of SO2 in 43 states that may potentially be listed under the DRR. Currently, there are 137 sources in 36 states that are still subject to ongoing reporting requirements under the SO2 Data Requirements Rule.

² Pursuant to section 51.1203(a) of the SO2 Data Requirements Rule, air management agencies were required to submit a list of applicable sources of SO2 emissions in their jurisdiction with emissions of 2,000 tpy or greater by no later than January 15, 2016. See 80 FR 51087, August 21, 2015.

The DRR described the criteria for identifying the source areas where air agencies needed to characterize SO2 air quality. It also described the process and timetables by which air quality management agencies were required to characterize air quality in areas around sources through ambient monitoring and/or air quality modeling techniques and submit this data to EPA. The air quality data developed by the states in accordance with the Rule were used by EPA to assist in the remaining rounds of area designations for the 2010 SO2 NAAQS, as well as in other areas, and is intended to provide information to verify whether areas are meeting the standard.

For those air quality management agencies that elected to conduct ambient air monitoring for areas with listed DRR sources to provide the necessary air quality data to EPA, the state and local air quality management agencies are responsible for reporting ambient air quality data and will continue to submit these data electronically to EPA's Air Quality System (AQS) and voluntary databases. Quality assurance/quality control records and monitoring network documentation are also maintained by each state and local agency, in AQS electronic format where possible. Although the state and local air quality management agencies are responsible for the operation of this air monitoring network, they may have opportunities to work with industry to help support modeling exercises and/or monitoring network installation, operations, and maintenance. As explained above, while information collections associated with initial ambient air quality monitoring required under the DRR (40 CFR part 51) were included in the prior version of the DRR ICR, any collections associated with ongoing monitoring are now covered by the part 58 ICR. Ongoing collections have been removed from the DRR ICR to avoid duplicative burden calculations. Future renewals of the Part 58 ICR will continue to cover any collections of ongoing ambient air monitoring data that were initiated under subpart BB of part 51, as long as any of those monitors continues to operate.

For those air quality management agencies that elected to conduct air quality modeling of the areas containing listed DRR sources to provide the necessary air quality data to EPA and which were designated either unclassifiable/attainment or attainment/unclassifiable based on modeling of actual emissions of the area, state and local air quality management agencies are responsible for submitting on-going data reports. In accordance with the SO2 Data Requirements Rule, these reports must be submitted annually as either a stand-alone document made available for public inspection or as an appendix to the air agency's Annual Monitoring Network Plan, and are required to include the annual SO2 emissions of each applicable source in each such area, provide an assessment of the cause of any emissions increase from the previous year, and include a recommendation from the air agency regarding whether additional modeling is needed to characterize air quality in any area to determine whether the area meets or does not meet the 2010 SO2 NAAQS. If the EPA requires that the air agency conduct updated air quality modeling for the area, the air agency has 12 months to submit it to the EPA.

Abstract

This ICR includes estimates for the submission and processing of emissions and emissions-related information and ambient air dispersion modeling reporting and activities, associated with the 40 CFR part 51 Requirements for Preparation, Adoption and Submittal of Implementation Plans, as they apply to the 2010 1-Hour SO2 Primary NAAQS. These data and information are collected by various state and local air quality management agencies and reported to the EPA. State and local air management agencies chose to submit either monitoring or modeling information in order to meet the initial and on-going requirements, as applicable, to characterize air quality concentrations in areas with specific emissions sources identified under the final SO2 DRR. This proposed ICR Renewal adopts (with some revisions) the estimates contained in the original ICR, and it includes burden estimates for the development, submittal, and processing of the information described above to meet ongoing requirements under the DRR during the period January 1, 2023-December 31, 2025. For those state and local air management agencies that chose ambient monitoring rather than modeling to characterize air quality around specific emissions sources during the initial phase of DRR implementation (2016), such monitoring is required by subpart BB of part 51, and information collections associated with initial ambient air quality monitoring required under Part 51 were initially included in the prior versions of the DRR ICR. Currently, the DRR requires that ongoing monitoring continue to meet the operational constraints and requirements in 40 CFR part 58, and any collections associated with ongoing monitoring under the DRR are now covered by the Part 58 ICR (EPA ICR No. 0940.29; OMB No. 2060-0084). Therefore, ongoing collections of ambient monitoring data have been removed from coverage by the DRR ICR to avoid duplicative burden calculations. Future renewals of the part 58 ICR will continue to cover any collections of ongoing ambient air monitoring data that were initiated under Subpart BB of Part 51, so long as any of those monitors continues to operate.

In accordance with the requirements of the DRR, where an air agency finds in the annual emissions report for a source subject to the DRR that emissions have increased in an area, the state or the EPA may determine that the state must submit updated air quality modeling data for the area to determine whether or not the area is meeting the 2010 1-Hour SO2 Primary NAAQS.

The information requirements included within this ICR are necessary to provide EPA with ambient air quality data, which includes emissions data and/or modeling data, to determine the air quality status of specific areas around the country, to make attainment decisions for those areas with respect to the NAAQS, to assist in developing necessary control strategies in order to ensure attainment of the NAAQS in those areas, to assess national trends in air pollution, to inform the public of air quality, and to determine the population's exposure to various ambient air pollutants. EPA's ability to achieve its goal of attaining the 2010 SO2 1-hour NAAQS in all areas of the United States is directly dependent upon the availability of ambient air quality data (emissions and/or modeling data) requested in this information collection. Additionally, EPA, state and local air quality management agencies, environmental groups, industrial groups, and academic organizations use these data to study atmospheric chemistry, e.g., the formation and fate of SO2 to determine the most appropriate and effective control strategies necessary to reduce air pollution.

The principal legal authority for this information collection is the Clean Air Act (CAA), 42 U.S.C. 7403, 7410, 7414(a), and 7511a, from which the 40 CFR part 51 regulations were promulgated. Under section 7403(c), the Administrator is required to conduct a program of research, testing, and development of methods for sampling, measurement, monitoring, analysis, and modeling of air pollutants, specifically including a requirement to establish a national network to monitor, collect, and compile data with quantification of certainty in the status and trends of air emissions and air quality.

CAA sections 110(a) and (k) (42 U.S.C. 7410(a) and (k)) contain the state implementation plan (SIP) requirements, which include a requirement that each State submit a SIP that: (1) provides for the establishment and operation of appropriate devices, methods, systems, and procedures necessary to monitor, compile, analyze, and make available to the Administrator data on ambient air quality and (2) provides for the performance of such air quality modeling as the Administrator may prescribe for the purpose of predicting the effect on ambient air quality of any emissions of any air pollutant for which the Administrator has established a NAAQS, and the submission, upon request, of data related to such air quality modeling to the designee as stipulated in the rule.

Form Numbers: None.

Respondents/affected entities: State, local and tribal air pollution management control agencies.

Respondents' obligation to respond: mandatory (see CAA 42 U.S.C. 7403, 7410, and 7511a, from which the 40 CFR part 51 regulations were promulgated).

Estimated number of respondents: 36 states, providing emissions and in some cases air quality modeling for 137 sources.

Frequency of response: Annually for ongoing modeling annual report.

Total estimated burden: On the high end, the modeling burden per source is estimated to be $22,000 annually. On the low end, labor costs are estimated to be 5% of the overall turnkey estimate, or $1,100 per report annually. Burden is defined at 5 CFR 1320.03(b).

Total estimated cost: Range of $150,700 to $3,014,000 (per year).

Changes in Estimates: The prior renewal of this ICR estimated a maximum possible burden of $5,100,000 annually for modeling sources. This ICR renewal, estimating a range of $150,700 to $3,014,000 annually, reflects a decrease in the maximum possible burden of $2,086,000 annually for modeling sources. This decrease is due to the reduced number of listed sources for which states chose air quality modeling to meet their DRR requirements.

Scott Mathias,
Director, Air Quality Policy Division.

[FR Doc. 2022-17267 Filed 8-10-22; 8:45 am]

BILLING CODE 6560-50-P